FARM CREDIT ADMINISTRATION

12 CFR Part 607

RIN 3052-AD30

Assessment and Apportionment of Administrative Expenses

AGENCY: Farm Credit Administration.

ACTION: Notification of effective date.

SUMMARY: The Farm Credit Administration (FCA or we) issued a direct final rule adopting technical amendments to eliminate language that is obsolete, confusing, and unnecessary to determine the annual assessment amount of Farm Credit System institutions. In accordance with the law, the effective date of the rule is no earlier than 30 days from the date of publication in the Federal Register during which either or both Houses of Congress are in session.

DATES: Effective date: Under the authority of 12 U.S.C. 2252, the regulation amending 12 CFR part 607 published on October 20, 2017 (82 FR 48758) is effective December 13, 2017.

FOR FURTHER INFORMATION CONTACT:

Jeremy R. Edelstein, Senior Policy Analyst, Office of Regulatory Policy, (703) 883-4497, TTY (703) 883-4056, edelsteinj@fca.gov;

or

Jennifer A. Cohn, Senior Counsel, Office of General Counsel, (303) 696-9737, TTY (703) 883-4056, cohnj@fca.gov.

SUPPLEMENTARY INFORMATION: The Farm Credit Administration (FCA or we) issued a direct final rule adopting technical amendments to eliminate language that is obsolete, confusing, and unnecessary to determine the annual assessment amount of Farm Credit System institutions. In accordance with 12 U.S.C. 2252, the effective date of the final rule is no earlier than 30 days from the date of publication in the Federal Register during which either or both Houses of Congress are in session. Based on the records of the sessions of Congress, the effective date of the regulations is December 13, 2017.

(12 U.S.C. 2252(a)(9) and (10))

Dated: December 8, 2017.
Dale L. Aultman,
Secretary, Farm Credit Administration Board.

[FR Doc. 2017-26835 Filed 12-12-17; 8:45 am]

BILLING CODE 6705-01-P